Title 3—

The President

Executive Order 13809 of August 28, 2017

Restoring State, Tribal, and Local Law Enforcement's Access to Life-Saving Equipment and Resources

By the authority vested in me as President by the Constitution and the laws of the United States of America, it is hereby ordered as follows:

Section 1. Revocation of Executive Order 13688. Executive Order 13688 of January 16, 2015 (Federal Support for Local Law Enforcement Equipment Acquisition), is hereby revoked.

Sec. 2. Revocation of Recommendations Issued Pursuant to Executive Order 13688. The recommendations issued pursuant to Executive Order 13688 do not reflect the policy of the executive branch. All executive departments and agencies are directed, as of the date of this order and consistent with Federal law, to cease implementing those recommendations and, if necessary, to take prompt action to rescind any rules, regulations, guidelines, or policies implementing them.

Sec. 3. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

August 28, 2017.

[FR Doc. 2017-18679

Filed 8-30-17; 11:15 am]

Billing code 3295-F7-P